DEPARTMENT OF HOUSING AND URBAN DEVELOPMENT

[Docket No. FR-5909-N-52]

30-Day Notice of Proposed Information Collection: Emergency Solutions Grant Data Collection

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: August 22, 2016.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov

FOR FURTHER INFORMATION CONTACT: Anna P. Guido, Reports Management Officer, QDAM, Department of Housing and Urban Development, 451 7th Street SW., Washington, DC 20410; email Anna P. Guido at Anna.P.Guido@hud.gov or telephone 202-402-5533. This is not a toll-free number. Persons with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on May 16, 2016 at 81 FR 30338.

A. Overview of Information Collection

Title of Information Collection: Emergency Solutions Grant Data Collection.

OMB Control Number: 2506-0089.

Form Number: None.

Type of Request: Revision of currently approved.

Description of the Need for Information and Proposed Use: This submission is to request an extension of a currently approved collection for the reporting burden associated with program and recordkeeping requirements that Emergency Solutions Grants (ESG) program recipients will be expected to implement and retain. This submission is limited to the recordkeeping burden under the ESG entitlement program. To see the regulations for the ESG program and applicable supplementary documents, visit the ESG page on the HUD Exchange at https://www.hudexchange.info/programs/esg/. The statutory provisions and the implementing interim regulations (also found at 24 CFR 576) that govern the program requiring these recordkeeping requirements.

Respondents (i.e. affected public): ESG recipient and subrecipient lead persons.

Estimated Number of Respondents: The ESG record keeping requirements include 18 distinct activities. Each activity requires a different number of respondents ranging from 20 to 78,000. There are 78,000 unique respondents.

Estimated Number of Responses: 526,116.

Frequency of Response: Each activity also has a unique frequency of response, ranging from once annually to monthly.

Average Hours per Response: Each activity also has a unique associated number of hours of response, ranging from 15 minutes to 12 hours and 45 minutes.

Total Estimated Burdens: The total number of hours needed for all reporting is 387,552 hours.

Exhibit A-1—Estimated Annual Burden Hours for ESG Data Collection
Information collection | Number of respondent | Response frequency (average) | Total annual responses | Burden hours per response | Total annual hours | Hourly rate ** | Burden cost per instrument
A | B | C | D | E | F
576.100(b)(2) Emergency Shelter and Street Outreach Cap | 360 | 1 | 360 | 1.00 | 360 | $37.13 | $13,366.80
576.400(a) Consultation with Continuums of Care | 360 | 1 | 360 | 6.00 | 2,160 | 37.13 | 80,200.80
576.400(b) Coordination with other Targeted Homeless Services | 2,360 | 1 | 2,360 | 8.00 | 18,880 | 37.13 | 701,014.40
576.400(c) System and Program Coordination with Mainstream Resources | 2,360 | 1 | 2,360 | 16.00 | 37,760 | 37.13 | 1,402,028.80
576.400(d) Centralized or Coordinated Assessment | 2,000 | 1 | 2,000 | 3.00 | 6,000 | 37.13 | 222,780.00
576.400(e) Written Standards for Determining the Amount of Assistance | 808 | 1 | 808 | 5.00 | 4,040 | 37.13 | 150,005.20
576.400(f) Participation in HMIS | 78,000 | 1 | 78,000 | 0.50 | 39,000 | 37.13 | 1,448,070.00
576.401(a) Initial Evaluation | 50,000 | 1 | 50,000 | 1.00 | 50,000 | 37.13 | 1,856,500.00
576.401(b) Recertification | 20,000 | 2 | 40,000 | 0.50 | 20,000 | 37.13 | 742,600.00
576.401(d) Connection to Mainstream Resources | 78,000 | 3 | 234,000 | 0.25 | 58,500 | 37.13 | 2,172,105.00
576.401(e) Housing retention plan | 50,000 | 1 | 50,000 | 0.75 | 37,500 | 37.13 | 1,392,375.00
576.402 Terminating Assistance | 808 | 1 | 808 | 4.00 | 3,232 | 37.13 | 120,004.16
576.403 Habitability review | 52,000 | 1 | 52,000 | 0.60 | 31,200 | 37.13 | 1,158,456.00
576.405 Homeless Participation | 2,360 | 12 | 28,320 | 1.00 | 28,320 | 37.13 | 1,051,521.60
576.500 Recordkeeping Requirements | 2,360 | 1 | 2,360 | 12.75 | 30,090 | 37.13 | 1,117,241.70
576.501(b) Remedial Actions | 20 | 1 | 20 | 8.00 | 160 | 37.13 | 5,940.80
576.501(c) Recipient Sanctions | 360 | 1 | 360 | 12.00 | 4,320 | 37.13 | 160,401.60
576.501(c) Subrecipient Response | 2,000 | 1 | 2,000 | 8.00 | 16,000 | 37.13 | 594,080
Total | 78,000 |  | 526,116 |  | 387,522 |  | 14,388,691.86
Annualized Cost @$37.13/hr (GS-12): $14,388,691.86.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Dated: July 18, 2016.
Anna P. Guido,
Department Paperwork Reduction Act Officer, Office of the Chief Information Officer.

[FR Doc. 2016-17256 Filed 7-20-16; 8:45 am]

BILLING CODE 4210-67-P